DEPARTMENT OF ENERGY

Federal Energy Regulatory Commission

Combined Notice of Filings #1

Take notice that the Commission received the following electric rate filings:

Docket Numbers: ER11-3050-002.

Applicants: FirstEnergy Corp.

Description: Notice of change in status of FirstEnergy Companies.

Filed Date: 3/5/18.

Accession Number: 20180305-5382.

Comments Due: 5 p.m. ET 3/26/18.

Docket Numbers: ER12-1179-025.

Applicants: Southwest Power Pool, Inc.

Description: Compliance filing: Deficiency Response in ER12-1179-024—Order No. 745 Compliance Filing to be effective N/A.

Filed Date: 3/5/18.

Accession Number: 20180305-5357.

Comments Due: 5 p.m. ET 3/26/18.

Docket Numbers: ER15-1434-002.

Applicants: Emera Maine, ISO New England Inc.

Description: Compliance filing: Joint Offer of Settlement Regarding Bangor Hydro District Annual Charges Update to be effective N/A.

Filed Date: 3/6/18.

Accession Number: 20180306-5065.

Comments Due: 5 p.m. ET 3/27/18.

Docket Numbers: ER18-960-000.

Applicants: Emera Maine.

Description: Emera Maine submits tariff filing per 35.13(a)(2)(iii): Offer of Settlement Regarding Maine Public District Charges [Docket No. ER15-1429-000] to be effective 6/1/2017.

Filed Date: 3/5/18.

Accession Number: 20180305-5287.

Comments Due: 5 p.m. ET 3/26/18.

Docket Numbers: ER18-964-000.

Applicants: Wisconsin Public Service Corporation.

Description: § 205(d) Rate Filing: Filing of Annual Formula Rate for PEB and PBOP Changes to be effective 4/1/2018.

Filed Date: 3/6/18.

Accession Number: 20180306-5044.

Comments Due: 5 p.m. ET 3/27/18.

Docket Numbers: ER18-965-000.

Applicants: FirstEnergy Solutions Corp.

Description: Request of FirstEnergy Solutions Corp. for Authorization to Make Wholesale Power Sales to Affiliate, Potomac Edison Company.

Filed Date: 3/5/18.

Accession Number: 20180305-5378.

Comments Due: 5 p.m. ET 3/26/18.

Docket Numbers: ER18-967-000.

Applicants: KODE Novus II, LLC

Description: § 205(d) Rate Filing: Amend Market Based Rate Tariff to be effective 5/6/2018.

Filed Date: 3/6/18.

Accession Number: 20180306-5077.

Comments Due: 5 p.m. ET 3/27/18.

Docket Numbers: ER18-968-000.

Applicants: KODE Novus I, LLC.

Description: § 205(d) Rate Filing: Amend Market Based Rate Tariff to be effective 5/6/2018.

Filed Date: 3/6/18.

Accession Number: 20180306-5081.

Comments Due: 5 p.m. ET 3/27/18.

Docket Numbers: ER18-970-000.

Applicants: PacifiCorp.

Description: § 205(d) Rate Filing: Tri-State Construct Agmt—Monolith Tap IC Rev 1 to be effective 2/13/2018.

Filed Date: 3/6/18.

Accession Number: 20180306-5105.

Comments Due: 5 p.m. ET 3/27/18.

Take notice that the Commission received the following electric reliability filings:

Docket Numbers: RR18-3-000.

Applicants: North American Electric Reliability Corporation, Midwest Reliability Organization, SERC Reliability Corporation.

Description: Joint Petition of the North American Electric Reliability Corporation, et al. for Approvals in Connection with the Dissolution of the Southwest Power Pool Regional Entity.

Filed Date: 3/5/18.

Accession Number: 20180305-5366.

Comments Due: 5 p.m. ET 3/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2018.
Nathaniel J. Davis, Sr.,
Deputy Secretary.

[FR Doc. 2018-04854 Filed 3-9-18; 8:45 am]

BILLING CODE 6717-01-P